DEPARTMENT OF LABOR

Office of the Secretary

Submission for OMB Review; Comment Request

May 5, 2003.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain, contact Darrin King on 202-693-4129 (this is not a total-free number) or E-Mail: King.Darrin@dol.gov.

Comments should be sent to Office of Information and Regulatory Affairs, Attn: OMB Desk Officer for the Mine Safety and Health Administration, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Mine Safety and Health Administration (MSHA).

Type of Review: Revision of a currently approved collection.

Title: Qualification and Certification Program.

OMB Number: 1219-0069.

Type of response: Reporting.

Frequency: On Occasion.

Affected Public: Business or other for-profit.

Number of Respondents: 684.

Annual Responses: 684.

Average Response Time: 10 minutes.

Total Burden Hours: 114.

Total Annualized Capital/startup Costs: $0.

Total Annual (operating/maintaining): $253.

Description: 30 CFR 75.100, 75.155, 77.100, and 77.105 require persons performing tasks and certain required examinations at coal mines which are related to miner safety and health, and which required specialized experience, are required to be either “certified” or “qualified.” The regulations recognize State certification and qualification programs. However, where state programs are not available, under the Mine Act and MSHA standards, the Secretary may certify and qualify persons for as long as they continue to satisfy the requirements needed to obtain the certification or qualification, fulfill any applicable retraining requirements, and remain employed at the same mine or by the same independent contractor. MSHA Forms 5000-4 and 5000-7 provide the coal mining industry with a standardized reporting format that expedites the certification process while ensuring compliance with the regulation. The information provided on the forms enables the Secretary of Labor's delegate—MSHA, Qualification and Certification Unit—to determine if the applicants satisfy the requirements to obtain the certification or qualification.

MSHA is presently in the process of streamlining its Forms. Forms 5000-4 and 5000-7 will be combined into one form 5000-41 for future use by coal mine operators. MSHA is requesting approval of this form.

Ira L. Mills,
Departmental Clearance Officer.

[FR Doc. 03-12293 Filed 5-15-03; 8:45 am]

BILLING CODE 4510-43-M